DEPARTMENT OF TRANSPORTATION

Federal Highway Administration

[Docket No. FHWA-2025-0037]

Notice of Intent To Prepare an Environmental Impact Statement in Virginia

AGENCY: Federal Highway Administration (FHWA), DOT.

ACTION: Notice; correction.

SUMMARY: This Notices corrects the date by which comments must be submitted for the Notice of Intent (NOI) for the Powhite Parkway Project in western Chesterfield County, Virginia.

DATES: Comments on this NOI and the Additional Project Information Document must be received by the FHWA at the addressed below by August 15, 2025.

ADDRESSES: This NOI and Additional Project Information Document is available in the docket referenced above at http://www.regulations.gov and on the Project website located at https://www.vdot.virginia.gov/projects/richmond-district/chesterfield-powhite-parkway-study/. The NOI and Additional Information Document also will be mailed upon request. Interested parties are invited to submit comments by any of the following methods:

Website: For access to the documents, go to the Federal eRulemaking Portal located at http://www.regulations.gov or the Project website located at https://www.vdot.virginia.gov/projects/richmond-district/chesterfield---powhite-parkway-study/. The NOI and Additional Project Information Document also will be mailed upon request. Follow the online instructions for submitting comments.

Fax: 804-775-3356.

Mailing address of hand delivery or courier: Federal Highway Administration, 400 North 8th Street, Suite 750, Richmond, Virginia, 23219.

Email address: Amanda.Heath@dot.gov.

All submissions should include the agency name and the docket number that appears in the heading of this Notice. All comments received will be posted without change to http://www.regulations.gov or the Project website, https://www.vdot.virginia.gov/projects/richmond-district/chesterfield---powhite-parkway-study/, including any personal information provided. A summary of the comments received will be included in the Draft EIS, and all comments received will be included in an appendix to the Draft EIS.

FOR FURTHER INFORMATION CONTACT: FHWA: Amanda Heath, Environmental Protection Specialist, Federal Highway Administration—Virginia Division, 400 North 8th Street, Suite 650, Richmond, VA 23219-4825; email: Amanda.Heath@dot.gov; 804-775-3342. VDOT: Heather Staton, NEPA Project Manager/Environmental Division, Virginia Department of Transportation, 1401 East Broad Street, Richmond, VA, 23219; email: heather.staton@vdot.virginia.gov; 804-980-5659. Persons interested in receiving Project information can contact PowhiteParkwayStudy@VDOT.virginia.gov to be added to the Project mailing list.

SUPPLEMENTARY INFORMATION: On July 11, 2025, at 90 FR 31099, FHWA, in coordination with the Virginia Department of Transportation, published an NOI to solicit comment and advise the public, agencies, and stakeholders that an Environmental Impact Statement will be prepared to evaluate the potential environmental impacts of the proposed transportation improvements for the Powhite Parkway Project in western Chesterfield County, Virginia. That Notice incorrectly stated the comment period end date for this effort. This Notice corrects that error and establishes a comment period end date 30 days from the date of publication of this Notice. Late-filed comments will be considered to the extent practicable.

(Authority: 23 U.S.C. 139; 49 CFR 1.85.)

Daniel Omar Suarez,
Acting Division Administrator, Federal Highway Administration.

[FR Doc. 2025-13348 Filed 7-15-25; 8:45 am]

BILLING CODE 4910-RY-P